DEPARTMENT OF TRANSPORTATION

Maritime Administration

[Docket No. MARAD-2019-0094]

Deepwater Port License Application: Bluewater Texas Terminal LLC—Supplemental Draft Environmental Impact Statement

AGENCY: Maritime Administration, U.S. Department of Transportation.

ACTION: Notice of availability; notice of public meeting; request for comments.

SUMMARY: The Maritime Administration (MARAD), in coordination with the U.S. Coast Guard (USCG), announces the availability of the Supplemental Draft Environmental Impact Statement (SDEIS) for the Bluewater Texas Terminal Single Point Mooring (Bluewater or Applicant) Deepwater Port License Application for the export of crude oil from the United States to nations abroad. In addition, MARAD and the USCG announce an informational open house and a public meeting for the SDEIS. Publication of this notice announces the availability of the SDEIS, initiates a 45-day comment period, requests public participation, provides information on how to participate in the environmental impact review process, and announces the informational open house and public meeting.

DATES: The open house and public meeting will be held on Tuesday, February 3, 2026. The open house will take place from 5 p.m. to 6 p.m. Central Standard Time (CST) and the public meeting will take place from 6 p.m. to 8 p.m. CST. These events will be held at the Omni Corpus Christi Hotel, 900 North Shoreline Boulevard, Corpus Christi, TX 78401. Materials submitted in response to this request for comments on the SDEIS must be submitted to the Federal eRulemaking Portal or the Federal Docket Management Facility as detailed in the ADDRESSES section below no later than 45 days after the Environmental Protection Agency (EPA) publishes its notice of availability of the SDEIS in the Federal Register.

ADDRESSES: You may submit comments identified by DOT Docket Number MARAD-2019-0094 by any one of the following methods:

• Federal eRulemaking Portal: Go to http://www.regulations.gov. Search MARAD-2019-0094 and follow the instructions for submitting comments.

• Mail or Hand Delivery: The Docket Management Facility is located at the U.S. Department of Transportation, 1200 New Jersey Avenue SE, West Building, Room W12-140, Washington, DC 20590. Documents may be delivered between 9 a.m. and 5 p.m., Monday through Friday, except on Federal holidays.

Instructions: If you mail or hand-deliver your comments, we recommend that you include your name and a mailing address, an email address, and/or a telephone number in a cover page so that we can contact you if we have questions regarding your submission. All submissions received must include the agency name and specific docket number to ensure your comment is filed in the appropriate docket. All comments received will be posted without change to the docket at www.regulations.gov, including any personal information provided. If you submit your comments by mail or hand delivery, submit them in an unbound format, no larger than 8½ by 11 inches, suitable for copying and electronic filing.

The instructions listed in this section are the only methods in which comments will be accepted for submission to the docket. It is the commenter's responsibility to comply with the instructions above to ensure that their comments are properly submitted for consideration and review. Comments that are not submitted using the methods specified and outlined within this notice will not be considered.

Privacy Act: Anyone can search the electronic form of all comments received into any docket by the name of the individual submitting the comment (or signing the comment, if submitted on behalf of an association, business, labor union, etc.). For information on DOT's compliance with the Privacy Act, please visit https://www.transportation.gov/privacy.

FOR FURTHER INFORMATION CONTACT: Mr. Brent Yezefski, U.S. Coast Guard, telephone: 202-366-1427, email: DeepwaterPorts@USCG.mil; or Dr. Efrain Lopez, Maritime Administration, telephone: 202-366-9761, email: Deepwater.Ports@dot.gov.

SUPPLEMENTARY INFORMATION:

Public Meeting and Open House

We encourage you to attend the informational open house and public meeting to learn about and comment on the Bluewater project. You will have the opportunity to submit comments on the issues related to the Bluewater project that should be addressed in the Final EIS (FEIS).

Speakers at the public meeting will be recognized in the following order: elected officials, public agencies, individuals, or groups in the sign-up order, and then anyone else who wishes to speak.

To allow everyone a chance to speak at the public meeting, we may limit speaker time, extend the meeting hours, or both. You must identify yourself, and any organization you represent, by name. Your remarks will be recorded and/or transcribed for inclusion in the public docket.

You may submit written material through the docket submission process either in place of, or in addition to, speaking. Written material should include your name and address and will be included in the public docket. Public docket materials will be made available to the public on the Federal Docket Management Facility website (see ADDRESSES).

If you plan to participate in the open house or public meeting and need special assistance such as sign language interpretation, non-English language interpretation services or other reasonable accommodation, please notify MARAD or USCG (see FOR FURTHER INFORMATION CONTACT) at least seven business days in advance of the public meeting. Include your contact information as well as information about your specific needs.

Request for Comments

We request public comments or other relevant information related to the SDEIS for the Bluewater project. The comments will inform the preparation of the FEIS. We encourage attendance at the public meeting; however, the public meeting is not the only opportunity you have to comment on the Bluewater project. You may also submit comments directly to the Federal Docket Management Facility during the public comment period (see DATES). We will consider all substantive comments and materials that are received no later than 11:59 p.m. Eastern Standard Time on the last day of the comment period. Comments submitted outside the comment period may not be considered.

The Bluewater application, all comments, and associated documentation are available for viewing at the Federal Docket Management System (FDMS) website: http://www.regulations.gov identified by the DOT Docket Number listed above.

Summary of Application

A Notice of Application that summarized the Bluewater application was published in the Federal Register on Wednesday, June 26, 2019 (84 FR 30301). A Notice of Intent to Prepare an Environmental Impact Statement and Notice of Public Meeting was published in the Federal Register on Wednesday, July 3, 2019 (84 FR 32005). A Notice of Availability of the Draft Environmental Impact Statement (DEIS) and Notice of Public Meeting was published in the Federal Register on Monday, November 1, 2021 (86 FR 60332). This Notice of Availability incorporates these Federal Register notices by reference.

The Bluewater application proposes the construction and operation of a deepwater port terminal in the Gulf of America off the coast of Corpus Christi, Texas, and near Aransas and San Patricio Counties to export domestically produced crude oil. After the publication of the DEIS, the Applicant revised its deepwater port license application in response to ongoing consultation with regulatory agencies and subsequently refined the design of the proposed deepwater port by adding a vapor control system into the design and operation of the proposed Bluewater project.

Once the SDEIS comment period closes, USCG, MARAD, and other appropriate cooperating agencies will consider all substantive comments received and prepare a FEIS. We will announce the availability of the FEIS. The Deepwater Port Act of 1974 requires a final public hearing be held in the Adjacent Coastal State(s). The purpose of the final public hearing is to receive comments on matters related to whether the deepwater port license application should be approved by the Maritime Administrator.

(Authority: 33 U.S.C. 1501, et seq., 49 CFR 1.93)

By Order of the Maritime Administrator.
T. Mitchell Hudson, Jr.,
Secretary, Maritime Administration.

[FR Doc. 2026-01255 Filed 1-22-26; 8:45 am]

BILLING CODE 4910-81-P